ENVIRONMENTAL PROTECTION AGENCY

[FRL-7614-4]

Two Proposed Administrative Settlements Under the Comprehensive Environmental Response, Compensation, and Liability Act

AGENCY: Environmental Protection Agency (EPA).

ACTION: Notice; request for public comment.

SUMMARY: In accordance with the Comprehensive Environmental Response, Compensation and Liability Act of 1980 (CERCLA), 42 U.S.C. 9601 et seq., notice is hereby given that the United States Environmental Protection Agency is proposing to enter into an Agreement and Covenant Not to Sue (Prospective Purchaser Agreement) with Kelly Development LLC and a Settlement Agreement with responsible parties at the Frontier Hard Chrome National Priorities List Superfund Site.

The Frontier Hard Chrome Site is located at 113 Y Street in Vancouver, Washington. The Site is the location of the former Frontier Hard Chrome chrome-plating facility. Discharges of chrome-plating waste at the Site have resulted in a plume of chromium-contaminated groundwater. The Site was listed on the National Priorities List and is being remediated by EPA using Superfund money pursuant to an Amended Record of Decision issued on August 30, 2001.

The Property on which the chrome-plating facility was located is owned by Walter Neth, the Estate of Otto Neth, and the Lillian Mae Neth Family Trust (Settling PRPs). The Settling PRPs are seeking to sell the Property to Kelly Development LLC (Kelly). Kelly intends to purchase the Property, as well as the adjacent property, for development for light industrial uses, offices, and storage space.

The proposed Prospective Purchaser Agreement would resolve certain potential claims of the United States under sections 106 and 107(a) of CERCLA, 42 U.S.C. 9606 and 9607(a), and section 7003 of RCRA, 42 U.S.C. 6973 against Kelly Development LLC that may otherwise result from Kelly acquiring Site property. It would also grant a waiver of any lien that EPA may have on the Property under section 107(r) of CERCLA, 42 U.S.C. 9607(r), as a result of response actions conducted by EPA on the Property. The proposed Settlement Agreement would resolve claims of the United States under sections 106 and 107(a) of CERCLA, 42 U.S.C. 9606 and 9607(a) against the Settling PRPs.

In exchange for its covenant not to sue in both agreements, EPA is receiving $180,000 less 87.5% of Settling PRPs' closing costs to be paid to a Superfund Special Account for use at the Site. Settling PRPs are also creating a Frontier Hard Chrome Environmental Trust (Trust), into which $30,000 will be paid. The total of $210,000 is 87.5% of the amount Kelly is paying to purchase the Site Property from the Settling PRPs. Settling PRPs are also funding the Trust with insurance policies covering the Site. The Trustee will pursue these policies and whatever proceeds are received will be transferred to the Superfund Special Account for the Site.

EPA is allowing thirty (30) days for public comments. For thirty calendar days following the date of publication of this notice, EPA will receive written comments relating to the proposed Prospective Purchaser Agreement and Settlement Agreement. EPA's response to any comments received will be available for public inspection at the U.S. Environmental Protection Agency, Region 10, 1200 Sixth Ave., Seattle, WA 98101.

DATES: Comments must be submitted on or before February 26, 2004.

ADDRESSES: The proposed Prospective Purchaser Agreement, Settlement Agreement, and additional background documents relating to the settlements are available for public inspection at the Environmental Protection Agency, Region 10, 1200 Sixth Ave., Seattle, WA 98101. A copy of the proposed settlements may be obtained from Jennifer Byrne, Assistant Regional Counsel (ORC-158), Office of Regional Counsel, EPA Region 10, Seattle, WA 98101. Comments should reference “Frontier Hard Chrome Settlements” and “Docket No. CERCLA-10-2003-0009” and should be addressed to Jennifer Byrne at the above address.

FOR FURTHER INFORMATION CONTACT: Jennifer Byrne, Assistant Regional Counsel (ORC-158), Office of Regional Counsel, EPA Region 10, Seattle, WA 98101; phone: (206) 553-0050; fax: (206) 553-0163; e-mail: byrne.jennifer@epa.gov.

Dated: August 4, 2003.
L. John Iani,
Regional Administrator, Region 10.

[FR Doc. 04-1685 Filed 1-26-04; 8:45 am]

BILLING CODE 6560-50-P